OVERSEAS PRIVATE INVESTMENT CORPORATION

September 12, 2002 Board of Directors Meeting

Time and Date: Thursday, September 12, 2002, 1:30 p.m. (Open Portion), 1:45 p.m. (Closed Portion).

Place: Offices of the Corporation, Twelfth Floor Board Room, 1100 New York Avenue, NW., Washington, DC.

Status: Meeting open to the Public from 1:30 p.m. to 1:45 p.m., Closed portion will commence at 1:45 p.m. (approx.).

Matters to be Considered:

1. President's Report

2. Approval of May 22, 2002 Minutes (Open Portion)

Further Matters to be Considered: (Closed to the Public 1:45 p.m.)

1. Proposed FY 2004 Budget Proposal and Allocation of Retained Earnings

2. Finance Project in Russia, Azerbaijan, Uzbekistan, Kazakhstan, and Ukraine

3. Finance Project—Global

4. Approval of May 22, 2002 Minutes (Closed Portion)

5. Pending Major Projects

6. Reports

Contact Person for Information: Information on the meeting may be obtained from Connie M. Downs at (202) 336-8438.

Dated: August 29, 2002.
Connie M. Downs,
Corporate Secretary, Overseas Private Investment Corporation.

[FR Doc. 02-22524 Filed 8-29-02; 2:13 pm]

BILLING CODE 3210-01-M